FEDERAL ELECTION COMMISSION

11 CFR Part 104

[Notice 2024-19]

Requirement To File FEC Form 3-Z

AGENCY: Federal Election Commission.

ACTION: Notice of proposed rulemaking.

SUMMARY: The Federal Election Commission proposes to amend its regulations by removing the requirement that the principal campaign committee of a candidate with multiple authorized committees must report information on FEC Form 3-Z. The Commission seeks comment on the proposed rule and has made no final decision on the issues presented in this rulemaking.

DATES: Comments must be received on or before September 3, 2024. The Commission may hold a public hearing on this notice of proposed rulemaking. Commenters wishing to testify at a hearing must so indicate in their comments. If a hearing is to be held, the Commission will publish a notification in the Federal Register announcing the date and time of the hearing.

ADDRESSES: All comments must be in writing. Commenters are encouraged to submit comments electronically via the Commission's website at https://sers.fec.gov/fosers, reference REG 2024-04. Alternatively, comments may be submitted in paper form addressed to the Federal Election Commission, Attn.: Ms. Amy Rothstein, Assistant General Counsel for Policy, 1050 First Street NE, Washington, DC 20463 (U.S. mail) or 20002 (all other delivery services).

Each commenter must provide, at a minimum, the commenter's first name, last name, city, and state. All properly submitted comments, including attachments, will become part of the public record, and the Commission will make comments available for public viewing on the Commission's website and in the Commission's Public Records Office. Accordingly, commenters should not provide any information that they do not wish to make public, such as a home street address, personal email address, date of birth, phone number, social security number, or driver's license number, or any information that is restricted from disclosure, such as trade secrets or commercial or financial information that is privileged or confidential.

FOR FURTHER INFORMATION CONTACT: Amy Rothstein, Assistant General Counsel for Policy, or Jennifer Waldman, Attorney, 1050 First Street NE, Washington, DC (202) 694-1650 or (800) 424-9530.

SUPPLEMENTARY INFORMATION: The Commission proposes to amend its regulations by removing the requirement that the principal campaign committee of a candidate with multiple authorized committees must report information on FEC Form 3-Z. The Commission is seeking comment on the proposed rule change. In particular, the Commission seeks comment on whether and for what purpose the public obtains information from FEC Form 3-Z or otherwise uses FEC Form 3-Z.

I. Background

The Federal Election Campaign Act (the “Act”) ¹ and Commission regulations require each candidate to register a principal campaign committee within 15 days of becoming a candidate.² A candidate may also authorize other political committees to receive contributions or make expenditures on the candidate's behalf by designating the committees in writing and filing the designations with the candidate's principal campaign committee.³

¹ 52 U.S.C. 30101-45.

² Id. 30102(e)(1); 11 CFR 101.1(a); see also 52 U.S.C. 30101(5) (“The term `principal campaign committee' means a political committee designated and authorized by a candidate under section 30102(e)(1) of this title.”); 11 CFR 100.5(e)(1).

³ 52 U.S.C. 30102(e)(1); 11 CFR 101.1(b); see also 52 U.S.C. 30101(6) (“The term `authorized committee' means the principal campaign committee or any other political committee authorized by a candidate under section 30102(e)(1) of this title to receive contributions or make expenditures on behalf of such candidate.”); 11 CFR 100.5(f)(1).

The Act requires “each designation, statement or report of receipts or disbursements made by an authorized committee” to be filed with the candidate's principal campaign committee.⁴ The Act further requires each principal campaign committee, in turn, to “receive” these designations, statements and reports and to “compile and file” them pursuant to the Act.⁵

⁴ 52 U.S.C. 30102(f)(1).

⁵ Id. 30102(f)(2).

In 1980, the Commission promulgated a regulation (11 CFR 104.3(f)) to implement these requirements: Section 104.3(f) requires each candidate's principal campaign committee to file reports submitted to it by the candidate's other authorized committees, along with its own report.⁶ In addition, § 104.3(f) requires the principal campaign committee to file FEC Form 3-Z to report specific consolidated information gleaned from the authorized committees' reports when it submits those reports to the Commission.⁷ It is this FEC Form 3-Z that the Commission now proposes to remove.

⁶ 11 CFR 104.3(f).

⁷ Id.

When the Commission first started requiring FEC Form 3-Z, political committees filed their reports only in paper form and the Commission made the reports publicly available on paper and microfiche in the Commission's Public Records room. By requiring a candidate's principal campaign committee to consolidate information about the financial activity of all of the candidate's authorized committees on FEC Form 3-Z, the Commission made it easier for the public to obtain a comprehensive picture of the candidate's receipts and disbursements during the reporting period.

Public access to political committees' reports has expanded dramatically since 1980, however, due in large part to statutory revisions and technological developments. In 1999, Congress amended the Act to provide for mandatory and discretionary electronic filing; ⁸ as a result, all political committees that have or reasonably expect to have contributions or expenditures exceeding $50,000 in a calendar year must electronically file their reports directly with the Commission, and other persons may do so if they choose.⁹ Further, Congress amended the Act to require the Commission to make all reports filed electronically with the Commission publicly available on the internet within 24 hours of receipt and within 48 hours of receipt for reports not filed electronically.¹⁰

⁸ Treasury and General Government Appropriations Act, 2000, Public Law 106-58, sec. 639(a), 113 Stat. 430, 476 (1999) (“2000 Appropriations Act”); 52 U.S.C. 30104(a)(11)(A).

⁹ 11 CFR 104.18(a) (requiring electronic filing for certain political committee); 11 CFR 104.18(b) (authorizing other committees to file electronically if they choose to do so); Electronic Filing of Reports by Political Committees, 65 FR 38415 (June 21, 2000), https://sers.fec.gov/fosers/showpdf.htm?docid=382 (last visited July 1, 2024).

¹⁰ 2000 Appropriations Act (requiring posting within 24 hours); Bipartisan Campaign Reform Act of 2002, Public Law 107-155, sec. 501, 116 Stat. 81, 114 (2002) (“BCRA”) (requiring posting within 48 hours); 52 U.S.C. 30104(a)(11)(B), (d)(2).

Congress also amended the Act in 2002 to require the Commission to maintain a central website “to make accessible to the public all publicly available election-related reports and information” required to be filed under the Act.¹¹ The posted reports and related information can be searched, sorted, and downloaded.¹²

¹¹ BCRA, sec. 502, 116 Stat. 115; 52 U.S.C. 30112(a). The Commission had launched its website, FEC.gov, six years earlier. See FEC Annual Report 1996 at 1, 5 (1997), https://www.fec.gov/resources/cms-content/documents/ar96.pdf (last visited July 1, 2024).

¹² See, e.g., 52 U.S.C. 30104(i)(4) (requiring Commission to ensure, “to the greatest extent practicable,” that certain information is publicly available on its website “in a manner that is searchable, sortable, and downloadable”).

II. Proposed Changes to 11 CFR 104.3

The Commission proposes to amend § 104.3(f) by eliminating the requirement that principal campaign committees file FEC Form 3-Z. Although FEC Form 3-Z served a useful purpose when it was introduced more than 40 years ago, the information that it provides essentially duplicates information that is now filed directly with the Commission and readily available to the public in a searchable, sortable, and downloadable format. Accordingly, FEC Form 3-Z appears to have been rendered obsolete.

The Commission does not intend or anticipate that its proposal, if adopted, would have a detrimental effect on disclosure. Indeed, only candidates with more than one authorized committee must file FEC Form 3-Z, and the number of candidates with more than one authorized committee who are not also mandatory electronic filers is vanishingly small: Of the nearly 4,000 registered authorized committees that have filed in the 2023-2024 election cycle, not one would trigger the FEC Form 3-Z requirement without also triggering the electronic filing requirement.¹³

¹³ FEC, Committees, https://www.fec.gov/data/browse-data/?tab=committees (last visited July 1, 2024).

The Commission seeks comment on this proposal. In particular, would the elimination of FEC Form 3-Z negatively affect disclosure of information about the financial activities of principal campaign committees and their authorized committees? In what manner and for what purpose does the public currently obtain information from FEC Form 3-Z or otherwise use FEC Form 3-Z?

List of Subjects in 11 CFR Part 104

Campaign funds, Political committees and parties, Reporting and recordkeeping requirements.

For the reasons set out in the preamble, the Federal Election Commission proposes to amend 11 CFR part 104 as follows:

PART 104—REPORTS BY POLITICAL COMMITTEES AND OTHER PERSONS (52 U.S.C. 30104)

1. The authority citation for part 104 is revised to read as follows:

Authority: 52 U.S.C. 30101(1), 30101(8), 30101(9), 30102(f), (g) and (i), 30104, 30111(a)(8) and (b), 30114, 30116, 36 U.S.C. 510.

2. Amend § 104.3 by revising paragraph (f) to read as follows:

§ 104.3 Contents of reports (52 U.S.C. 30104(b), 30114).

* * * * *

(f) Consolidated reports. Each principal campaign committee shall consolidate in each report those reports required to be filed with it. Such consolidated reports shall include:

(1) Reports submitted to it by any authorized committees; and

(2) The principal campaign committee's own reports.

* * * * *

On behalf of the Commission,
Sean J. Cooksey,
Chairman, Federal Election Commission.

[FR Doc. 2024-16843 Filed 7-31-24; 8:45 am]

BILLING CODE 6715-01-P